DEPARTMENT OF EDUCATION

Applications for New Awards; Technical Assistance and Dissemination To Improve Services and Results for Children With Disabilities and School Safety National Activities Programs—National Technical Assistance Center on Positive Behavioral Interventions and Supports

AGENCY: Office of Special Education and Rehabilitative Services, Office of Elementary and Secondary Education, Department of Education.

ACTION: Notice.

SUMMARY: The Department of Education (Department) is issuing a notice inviting applications for new awards for fiscal year (FY) 2023 for a National Technical Assistance Center on Positive Behavioral Interventions and Supports, Assistance Listing Number 84.326S. This notice relates to the approved information collection under OMB control number 1820-0028.

DATES:

Applications Available: July 17, 2023.

Deadline for Transmittal of Applications: August 31, 2023.

Pre-Application Webinar Information: No later than July 24, 2023, the Office of Special Education and Rehabilitative Services will post pre-recorded informational webinars designed to provide technical assistance (TA) to interested applicants. The webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs. Please note that these Common Instructions supersede the version published on December 27, 2021.

FOR FURTHER INFORMATION CONTACT: Mohamed Soliman, U.S. Department of Education, 400 Maryland Avenue SW, Room 5054B, Potomac Center Plaza, Washington, DC 20202-5067. Telephone: (202) 245-6335. Email: Mohamed.Soliman@ed.gov.

If you are deaf, hard of hearing, or have a speech disability and wish to access telecommunications relay services, please dial 7-1-1.

SUPPLEMENTARY INFORMATION:

Full Text of Announcement

I. Funding Opportunity Description

Purpose of Program: The purpose of the Technical Assistance and Dissemination to Improve Services and Results for Children with Disabilities program is to promote academic achievement and to improve results for children with disabilities by providing TA, supporting model demonstration projects, disseminating useful information, and implementing activities that are supported by scientifically based research.

The School Safety National Activities Program provides support to State educational agencies (SEAs) and local educational agencies (LEAs) for activities to improve student safety and well-being.

Priorities: This competition includes two absolute priorities. Applicants must address both priorities, and we will make one award as a comprehensive investment designed to enhance local and State efforts to improve school climate, conditions for learning, and access to and engagement in the instructional environment, with a focus on students with behavioral challenges, by implementing comprehensive positive behavioral interventions and supports (PBIS) frameworks.¹ Absolute Priority 1 is established in accordance with section 437(d)(1) of the General Education Provisions Act (GEPA) (20 U.S.C. 1232(d)(1)). Absolute Priority 2 is from the Notice of Final priority and requirements—Technical Assistance and Dissemination to Improve Services and Results for Children with Disabilities and the School Safety National Activities—National Technical Assistance Center on Positive Behavioral Interventions and Supports (NFP), published elsewhere in this issue of the Federal Register.

¹ The term “positive behavioral interventions and supports” was first used in a priority published by the Department in 1997, and it is currently used in the IDEA (e.g., sections 601(c)(5)(F), 611(e)(2)(C)(iii), 614(d)(3)(B)(i), 662(b)(2)(A)(v), and 665) and the ESEA (e.g., section 4631(a)(1)(B)). We do not use PBIS to mean any specific program or curriculum. Rather, we use the term generically to reference a multi-tiered framework used to improve the integration and implementation of social, emotional, behavioral and mental health practices, data-driven decision-making systems, professional development opportunities, school leadership, supportive SEA and LEA policies, and evidence-based instructional strategies. A PBIS framework helps to organize practices to improve social, emotional, behavioral, mental health and academic outcomes by improving school climate, promoting positive social skills, promoting effective strategies to support and respond to student needs, and increasing learning time. PBIS is an evidence-based, tiered framework (Tier 1: Universal, Primary Prevention; Tier 2: Targeted, Secondary Prevention; and Tier 3: Intensive and Individualized, Tertiary Prevention) for supporting students' behavioral, academic, social, emotional, and mental health.

Background:

Many students need additional supports to address social, emotional, and behavioral challenges that impact their full access to and participation in learning (Chafouleas, 2020). These challenges, if not properly addressed, can lead to student responses that are inconsistent with school or program expectations. The COVID-19 global pandemic exacerbated these challenges, accelerating the need to provide school-based social, emotional, behavioral, and mental health supports and leverage the existing evidence base to provide nurturing educational environments to meet the needs of our nation's youth.

MTSS frameworks such as PBIS ² have been validated by numerous randomized control trials (Bradshaw et al., 2012; Freeman et al., 2017). When implemented with fidelity, PBIS outcomes include reductions in removals of students from instruction; improved student exposure to and success in academics (grades and completion); improved educator satisfaction and retention; and improved overall ratings of school safety, belonging, and climate.

² The term “positive behavioral interventions and supports” was first used in a priority published by the Department in 1997, and it is currently used in the IDEA (e.g., sections 601(c)(5)(F), 611(e)(2)(C)(iii), 614(d)(3)(B)(i), 662(b)(2)(A)(v), and 665) and the ESEA (e.g., section 4631(a)(1)(B)). We do not use PBIS to mean any specific program or curriculum. Rather, we use the term generically to reference a multi-tiered framework used to improve the integration and implementation of social, emotional, behavioral and mental health practices, data-driven decision-making systems, professional development opportunities, school leadership, supportive SEA and LEA policies, and evidence-based instructional strategies. A PBIS framework helps to organize practices to improve social, emotional, behavioral, mental health and academic outcomes by improving school climate, promoting positive social skills, promoting effective strategies to support and respond to student needs, and increasing learning time. PBIS is an evidence-based, tiered framework (Tier 1: Universal, Primary Prevention; Tier 2: Targeted, Secondary Prevention; and Tier 3: Intensive and Individualized, Tertiary Prevention) for supporting students' behavioral, academic, social, emotional, and mental health.

Despite improved outcomes and knowledge from PBIS implementation efforts over the last two decades, data from the Office for Civil Rights' Civil Rights Data Collection suggests students from underserved groups are more likely to experience exclusionary discipline (e.g., suspensions, expulsions) (U.S. Department of Education, Civil Rights Data Collection SY17-18, Office for Civil Rights, 2021). Disaggregated data shows that disproportionate use of discipline grows when considering race, sex, and disability. Id. Research consistently shows that students of color, particularly Black students, Native students, and Black students with disabilities are significantly more likely than their non-disabled or White peers to be subjected to exclusionary discipline practices, including office discipline referrals and suspensions (e.g., Gage et al., 2019; McIntosh et al., 2018; McIntosh et al., 2021; Civil Rights Data Collection SY17-18, Office for Civil Rights, 2021). While disproportionality with respect to Black boys has long been acknowledged, more recent data analysis indicates the disproportionality also exists for Black girls as compared to White girls (Hassan & Carter, 2021). Other studies show disproportionality based on gender, historically demonstrating boys receive suspensions and expulsions at higher rates than girls (Bradshaw et al., 2010). Higher rates of punitive discipline practices also exist for students who identify as LGBTQ and those with disabilities (Himmelstein & Brückner, 2011; Brobbey, 2018). When students are denied access to instruction and participation in school opportunities, they are more likely to experience negative outcomes in school and later in life, including poor academic outcomes, lower graduation rates, incarceration, and employment and relationship challenges (Hemez et al., 2020; Lansford et al., 2016).

One of the most significant barriers to reducing exclusionary and aversive discipline practices for students, including students of color and students with disabilities, is the lack of culturally and linguistically inclusive pre-service and in-service training for teachers and leaders on effective practices for creating positive, safe learning environments to teach and support desired school behaviors and for responding to and mitigating behaviors that are inconsistent with school expectations and interfere with learning. The PBIS framework has provided an effective multi-tiered structure through the implementation and examination of systems, practices, and data to assist LEAs and schools in addressing inequities. When there is fidelity in implementing evidence-based practices (EBPs) ³ to prevent, reduce, and mitigate interfering behaviors within a PBIS framework, studies have found the following statistically significant results: improved perception of school safety; reductions in overall behaviors that are inconsistent with classroom or school expectations and that interfere with learning; and reduction of bullying behaviors, office discipline referrals, chronic absenteeism, and suspensions (Waasdorp et al., 2012). The PBIS framework has solidified the importance of core strategies, including implementing EBPs, and providing the systems needed to support those practices and data-based decision-making, to create and sustain positive, safe, and predictable learning environments. Fidelity in the implementation of the core strategies has also demonstrated the importance of adult responses, including effectively supporting and responding to student behavior (Horner et al., 2020).

³ For the purposes of this priority, “evidence-based practices” (EBPs) means, at a minimum, demonstrating a rationale (as defined in 34 CFR 77.1) based on high-quality research findings or positive evaluation that such activity, strategy, or intervention is likely to improve student outcomes or other relevant outcomes.

Although prior Department investments have led to successful implementation of the PBIS framework and positive outcome data in over 27,000 schools, based on persistent needs in the field, the Department has determined that additional and continued TA is needed to focus on: (1) students with more intensive social, emotional, behavioral, and mental health needs and those most likely to be excluded from the learning environment due to behavior that interferes with learning; (2) pre-service and in-service training on culturally and linguistically inclusive practices that support students from underserved groups; (3) improving implementation fidelity; and (4) addressing other systemic inequities such as access to school funding, experienced educators, and advanced coursework opportunities. In addition, the Department has determined that SEAs and LEAs could benefit from further TA to develop, expand, and sustain school-wide frameworks and to build personnel capacity and expertise to promote safe, positive, predictable, and culturally and linguistically inclusive learning environments where students feel a sense of belonging. Such additional TA would be focused on increasing the use of EBPs to more effectively support and respond to student needs, such as teaching school and classroom expectations, building classroom cultures of respect and belonging, and implementing trauma-informed practices. Such additional TA also would be focused on using EBPs to reduce the use of restraints, seclusion, and corporal punishment; chronic absenteeism; incidents of bullying; the disproportionate application of disciplinary procedures, such as suspension and expulsion, for students, including students of color and those with disabilities; unnecessary referrals of students to law enforcement; and violent and traumatic school incidents.

The Center will support States and LEAs in implementing EBPs within a MTSS/PBIS framework that improves results for children, including those underrepresented based on race, color, national origin, gender, age, disability, LGBTQI+, English learner, or socio-economic status. While PBIS is one evidence-based MTSS framework for addressing social, emotional, behavioral and mental health needs, the Department expects that the Center will stay abreast of developing frameworks and identify and incorporate a broad array of EBPs to support and respond to student needs, and tailor technical assistance in the settings established in the priority. This investment is aligned to the Secretary's Supplemental Priorities and Definitions for Discretionary Grant Programs published in the Federal Register on December 10, 2021 (86 FR 70612), in the areas of meeting student social, emotional, and academic needs, and promoting equity in student access to educational resources and opportunities.

References:

Bradshaw, C., Waasdorp, T., & Leaf, P. (2012). Effects of school-wide positive behavioral interventions and supports on child behavior problems. Pediatrics, 130(5),1136-1145. https://pediatrics.aappublications.org/content/130/5/e1136.

Bradshaw, C.P., Mitchell, M.M., O'Brennan, L.M., & Leaf, P. J. (2010). Multilevel exploration of factors contributing to the overrepresentation of Black students in office disciplinary referrals. Journal of Educational Psychology, 102, 508-520.

Brobbey, G. (2018). Punishing the vulnerable: Exploring suspension rates for students with learning disabilities. Intervention in School and Clinic, 53, 216-219.

Chafouleas, S. (2020, August). Four questions to ask now in preparing your child for school. Psychology Today. www.psychologytoday.com/us/blog/promoting-student-well-being/202008/4-questions-ask-now-in-preparing-your-child-school.

Freeman, J., Simonsen, B., Goodman, S., Mitchell, B., George, H.P., Swain-Bradway, J., Lane, K., Sprague, J., & Putnam, B. (2017). PBIS technical brief on systems to support teachers' implementation of positive classroom behavior support. PBIS Center. www.pbis.org/resource/pbis-technical-brief-on-systems-to-support-teachers-implementation-of-positive-classroom-behavior-support.

Gage, N.A., Grasley-Boy, N., George, H.P., Childs, K., & Kincaid, D. (2019). A quasi-experimental design analysis of the effects of school-wide positive behavior interventions and supports on discipline in Florida. Journal of Positive Behavior Interventions, 21(1), 50-61. https://doi.org/10.1177%2F1098300718768208.

Hassan, H.H., & Carter, V.B. (2021). Black and White Female Disproportional Discipline K-12. Education and Urban Society, 53(1), 23-41. https://doi.org/10.1177/0013124520915571.

Hemez P., Brent J.J., & Mowen T.J. (2020). Exploring the school-to-prison pipeline: How school suspensions influence incarceration during young adulthood. Youth Violence and Juvenile Justice, 18(3), 235-255. doi: 10.1177/1541204019880945.

Himmelstein, K.E., & Brückner, H. (2011). Criminal-justice and school sanctions against nonheterosexual youth: A national longitudinal study. Pediatrics, 127(1), 49-57.

Horner, R.H., Sugai, G., & Lewis, T.J. (2020). Is school-wide positive behavioral interventions and supports (PBIS) an evidence-based practice? Center on PBIS, University of Oregon. www.pbis.org/resource/is-school-wide-positive-behavior-support-an-evidence-based-practice.

Lansford, J.E., Dodge, K.A., Pettit, G.S., Bates, J.E. (2016). A Public Health Perspective on School Dropout and Adult Outcomes: A Prospective Study of Risk and Protective Factors From Age 5 to 27 Years. Journal of Adolescent Health, 58(6), 652-658.

McIntosh, K., Girvan, E.J., McDaniel, S.C., Santiago-Rosario, M.R., St. Joseph, S., Fairbanks Falcon, S., Izzard, S., Bastable, E. (2021). Effects of an equity-focused PBIS approach to school improvement on exclusionary discipline and school climate. Preventing School Failure: Alternative Education for Children and Youth, 65(4), 354-361.

McIntosh, K., Girvan, E.J., Fairbanks Falcon, S., McDaniel, S.C., Smolkowski, K., Bastable, E., Santiago-Rosario, M.R., Izzard, S., Austin, S.C., Nese, R.N.T., & Baldy, T.S. (2021). An equity-focused PBIS approach reduces racial inequities in school discipline: A randomized controlled trial. School Psychology, 36(6), 433-444. https://doi.org/10.1037/spq0000466.

McIntosh, K., Girvan, E.J., Horner, R.H., Smolkowski, K., & Sugai, G. (2018). A 5-point intervention approach for enhancing equity in school discipline. OSEP Technical Assistance Center on Positive Behavioral Interventions and Supports. www.pbis.org/resource/a-5-point-intervention-approach-for-enhancing-equity-in-school-discipline.

U.S. Department of Education, Office for Civil Rights. (2021). 2017-2018 Civil Rights Data Collection. https://ocrdata.ed.gov/estimations/2017-2018.

Waasdorp, T.E., Bradshaw, C.P., & Leaf, P.J. (2012). The impact of schoolwide positive behavioral interventions and supports on bullying and peer rejection: A randomized controlled effectiveness trial. Archives of Pediatrics and Adolescent Medicine, 166(2), 149-56. doi: 10.1001/archpediatrics.2011.755.

Absolute Priorities: For FY 2023 and any subsequent year in which we make awards from the list of unfunded applications from this competition, these priorities are absolute priorities. Under 34 CFR 75.105(c)(3), we consider only applications that meet these priorities.

These priorities are:

Absolute Priority 1—Technical Assistance and Dissemination to Improve Services and Results for Children with Disabilities Program—National Technical Assistance Center on Positive Behavioral Interventions and Supports.

The purpose of this priority is to fund a cooperative agreement to establish and operate a National Technical Assistance Center on Positive Behavioral Interventions and Supports (PBIS) (Center). This Center will assist SEAs and LEAs to enhance their capacity to develop, implement, scale-up, and sustain school-wide frameworks for MTSS/PBIS to improve behavior and climate and to enable all students, especially those from culturally and linguistically diverse backgrounds, and those with disabilities, to fully participate in, and benefit from, a high-quality learning environment.

The Center must achieve, at a minimum, the following expected outcomes:

(a) Improved infrastructure at the national, regional, State, and district levels to support, develop, sustain, and expand local implementation efforts (e.g., an increase in the number of schools) of MTSS/PBIS with fidelity to demonstrate improved student outcomes: academic performance, social-emotional competence, mental health and well-being, academic outcomes, reduced bullying behaviors, reduced student reports of alcohol and drug use for students with or at risk of disabilities and those with the most intensive needs.

(b) Improved capacity for systems implementation at the SEA and LEA levels, including new and existing LEAs and schools, to implement the components of a MTSS/PBIS framework (i.e., policies, funding, professional development, coaching, data collection, analysis, and use) and develop and utilize new and existing tools for selecting and aligning multiple initiatives within the SEA or LEA with a special focus on PBIS tiers beyond universal and the inclusion of EBPs to address mental health and well-being for children and youth with or at risk of disabilities, especially those with culturally and linguistically diverse backgrounds and those with the most intensive needs;

(c) Improved capacity of existing and new SEA and LEA personnel to enhance the knowledge and skills of members of school leadership teams and individualized education program (IEP) Teams to implement MTSS/PBIS policies and practices for students with or at risk of disabilities and those with the most intensive needs, including the development and implementation of IEPs and behavior intervention plans that are culturally responsive, particularly for students with culturally and linguistically diverse backgrounds, to support positive school behavior and respond to behaviors that interfere with a student's ability to fully participate in, and benefit from, a high-quality learning environment;

(d) Increased use by SEAs and LEAs of new and updated reliable and valid tools and processes for evaluating the fidelity of the implementation of a MTSS/PBIS framework and for measuring its outcomes, including reductions in violence and the illegal use of drugs, discipline referrals, suspensions, expulsions, and the use of restraints and seclusion; and improvements in school climate, time spent in instruction, mental health and well-being, and overall academic achievement, particularly for students with culturally and linguistically diverse backgrounds, and those with or at risk of disabilities, and those with the most intensive needs; and

(e) Increased body of knowledge to enhance implementation of MTSS/PBIS, particularly for students with culturally and linguistically diverse backgrounds, those with or at risk of disabilities, and for those with the most intensive needs, in high-poverty schools, low-performing schools, rural schools, high schools, alternative public schools, charter schools, mental health settings, private schools, and juvenile correction settings.

Absolute Priority 2: Technical Assistance—School Safety National Activities Program—National Technical Assistance Center on Positive Behavioral Interventions and Supports.

The purpose of this priority is to enhance the capacity of SEAs and LEAs to implement positive and safe school environments, and effectively support and respond to students' social, emotional, behavioral, and mental health needs to improve their learning, by implementing EBPs ⁴ within an MTSS/PBIS framework in the following settings:

⁴ “Evidence-based practices” (EBPs) means, at a minimum, demonstrating a rationale (as defined in 34 CFR 77.1) based on high-quality research findings or positive evaluation that such activity, strategy, or intervention is likely to improve student outcomes or other relevant outcomes.

(i) Programs or schools serving high percentages of students from low-income families in the following settings:

(1) Early learning programs.

(2) Elementary schools.

(3) Middle schools.

(4) High schools.

(5) Career and technical education programs.

(6) Rural schools.

(ii) Alternative schools and programs.

(iii) Juvenile justice system or correctional facilities.

(iv) Low-performing schools.

(v) Schools with a high student-to-mental health provider ratio.

(vi) Schools with high rates of chronic absenteeism, exclusionary discipline, referrals to the juvenile justice system, bullying/harassment, community and school violence, or substance abuse.

(vii) Schools in which students recently experienced a natural disaster, incident of violence, or traumatic event.

(viii) Schools with high percentages of students with disabilities or English Learners.

(ix) Federally supported elementary schools or secondary schools for Indian students.

To meet this priority, the applicant must propose to achieve, at a minimum, one or more of the following expected outcomes:

(a) Improved systems and resources at the national, regional, State, and district levels to support, develop, align, and sustain local implementation of MTSS/PBIS efforts to organize EBPs to support positive school climates and respond to student social, emotional, behavioral, and mental health needs to improve access to and engagement in learning.

(b) Improved capacity of SEA and LEA personnel to support the knowledge and skills development of school personnel, including administrators and practitioners, through efforts such as pre-service and in-service training and coaching, to implement MTSS/PBIS as a framework to organize EBPs to support and respond to student needs, particularly those from underserved and, culturally and linguistically diverse backgrounds, and students whose behaviors may interfere with a their ability to fully participate in, and benefit from, a high-quality learning environment.

(c) Increased use by SEAs, LEAs, and school-based personnel of reliable and valid tools and processes for enhancing and assessing the fidelity of implementation of an MTSS/PBIS Framework and for measuring intended outcomes, including improvements in school climate; time spent on instruction; well-being and belonging; overall academic achievement; and reductions in absenteeism, discipline referrals, suspensions, expulsions, the use of restraints or seclusion, illegal use of drugs, and referrals to law enforcement.

(d) Improved implementation of a MTSS/PBIS framework and EBPs, and assessment of SEA or LEA recipients of grant programs that focus on improving positive school climates and implementing EBPs to support and respond to students' social, emotional, behavioral, and mental health needs.

(e) Enhanced response and recovery assistance, as requested by and in collaboration with the Department, for violent or traumatic incidents that impact school communities, including intensive individualized support to facilitate recovery of the learning environment.

(f) Increased body of knowledge and evidence to enhance implementation of PBIS and other emerging MTSS frameworks and EBPs to address the social, emotional, behavioral, and mental health needs of underserved students in the settings established in the priority.

Common Application Requirements:

To be considered for funding under these priorities, applicants must meet the application and administrative requirements in these priorities, which are:

(a) Demonstrate how the proposed project will—

(1) Improve SEAs' and LEAs' implementation, scaling, and sustaining of EBPs within a MTSS/PBIS framework and policies that are designed to improve school climate and, as needed, to provide additional behavioral supports for students whose behavior impacts their ability to fully participate in, and benefit from, a high-quality learning environment, including students with disabilities and other underserved students in the settings established in the priority. To meet this requirement, the applicant must—

(i) Present applicable State, regional, or local data demonstrating SEAs' and LEAs' needs related to (A) implementation of EBPs and policies to improve school climate, student well-being, and belonging; and (B) increasing students' ability to fully participate in, and benefit from, a high-quality learning environment;

(ii) Demonstrate knowledge of current education issues and policy initiatives relating to MTSS/PBIS and school climate practices and policies and EBPs to effectively support and respond to student behavior that impacts learning; and

(iii) Present information about the current level of implementation of MTSS/PBIS, EBPs, policies, best practices, and benefits for all students, especially underserved students and those from culturally and linguistically diverse backgrounds;

(2) [See the Unique Application Requirements section below for the separate requirements applicable to Absolute Priority 1 and Absolute Priority 2 in paragraph (a)(2).]

(b) Demonstrate how the proposed project will—

(1) Ensure equal access and treatment for members of groups that have traditionally been underrepresented based on race, color, national origin, gender, age, disability, LGBTQI+, English learner, or socio-economic status. To meet this requirement, the applicant must describe how it will—

(i) Identify the TA and information needs of the intended recipients; and

(ii) Ensure that services and products meet the needs of the intended recipients of the TA;

(2) Achieve its goals, objectives, and intended outcomes. To meet this requirement, the applicant must provide—

(i) Measurable intended project outcomes; and

(ii) The logic model ⁵ (by which the proposed project will achieve its intended outcomes that depicts, at a minimum, the goals, activities, outputs, and intended outcomes of the proposed project;

⁵ As defined in 34 CFR 77.1, “logic model” (also referred to as a theory of action) means a framework that identifies key project components of the proposed project (i.e., the active “ingredients” that are hypothesized to be critical to achieving the relevant outcomes) and describes the theoretical and operational relationships among the key project components and relevant outcomes.

(3) Use a conceptual framework to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of EBPs. To meet this requirement, the applicant must describe—

(i) The current research on the assessment of the implementation of MTSS/PBIS frameworks and related EBPs;

(ii) The current research about adult learning principles and implementation science that will inform the proposed TA; and

(iii) How the proposed project will incorporate current and emerging research and practices in the development and delivery of its products and services;

(5) Develop products and provide services that are of high quality and sufficient intensity and duration to achieve the intended outcomes of the proposed project. To address this requirement, the applicant must describe—

(i) How it proposes to identify or develop the knowledge base of MTSS/PBIS:

(ii) Its proposed approach to universal, general TA,⁶ which must identify the intended recipients, including the type and number of recipients, that will receive the products and services, a description of the products and services that the Center proposes to make available, and the expected impact of those products and services under this approach;

⁶ “Universal, general TA” means TA and information provided to independent users through their own initiative, resulting in minimal interaction with Center staff and including one-time, invited or offered conference presentations by Center staff. This category of TA also includes information or products, such as newsletters, guidebooks, or research syntheses, downloaded from the Center's website by independent users. Brief communications by Center staff with recipients, either by telephone or email, are also considered universal, general TA.

(iii) Its proposed approach to targeted, specialized TA,⁷ which must identify—

⁷ “Targeted, specialized TA” means TA services based on needs common to multiple recipients and not extensively individualized. A relationship is established between the TA recipient and one or more Center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach; and

(B) Its proposed approach to measure the readiness of potential TA recipients to work with the project, assessing, at a minimum, their current systems, available resources, and ability to build capacity at the local level; and

(iv) Its proposed approach to intensive, sustained TA,⁸ which must identify—

⁸ “Intensive, sustained TA” means TA services often provided on-site and requiring a stable, ongoing relationship between the Center staff and the TA recipient. “TA services” are defined as negotiated series of activities designed to reach a valued outcome. This category of TA should result in changes to policy, program, practice, or operations that support increased recipient capacity or improved outcomes at one or more systems levels.

(A) The intended recipients, including the type and number of recipients from a variety of settings and geographic distribution, that will receive the products and services designed to improve school climate and;

(B) Its proposed approach to measure the readiness of the State- and local-level personnel to work with the project, including their commitment to the initiative, alignment of the initiative to their needs, current systems, available resources, and ability to build capacity at the local level;

(C) Its proposed plan for assisting SEAs, LEAs, local Part C agencies, charter management organizations, and private school organizations to build or enhance training systems that include professional development based on adult learning principles and coaching; and

(D) Its proposed plan for working with appropriate levels of the education system (e.g., SEAs, regional TA providers, LEAs, schools, families, community providers) to ensure that there is communication between each level and that there are systems in place to support the use of MTSS/PBIS;

(6) Develop products and implement services that maximize efficiency. To address this requirement, the applicant must describe—

(i) How the proposed project will use technology to achieve the intended project outcomes;

(ii) With whom the proposed project will collaborate, including families, community providers, other federal investments as appropriate, and the intended outcomes of this collaboration; and

(iii) How the proposed project will use non-project resources to achieve the intended project outcomes; and

(7) Develop a dissemination plan that describes how the applicant will systematically distribute information, products, and services to varied intended audiences, using a variety of dissemination strategies, to promote awareness and use of the Center's products and services.

(c) Include an evaluation plan for the project as described in the following paragraphs. The evaluation plan must describe measures of progress in implementation, including the criteria for determining the extent to which the project's products and services have met the goals for reaching its target population; measures of intended outcomes or results of the project's activities in order to evaluate those activities; and how well the goals or objectives of the proposed project, as described in its logic model, have been met.

The applicant must provide an assurance that, in designing the evaluation plan, it will—

(1) Designate, with the approval of the Office of Special Education Programs (OSEP) project officer in consultation with Office of Elementary and Secondary Education (OESE) staff, a project liaison with sufficient dedicated time, experience in evaluation, and knowledge of the project to work in collaboration with the Center to Improve Program and Project Performance (CIPP),⁹ the project director, and the OSEP project officer on the following tasks:

⁹ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise the logic model submitted in the application, as appropriate, to provide for a more comprehensive measurement of implementation and outcomes and to reflect any changes or clarifications to the model discussed at the kick-off meeting;

(ii) Refine the evaluation design and instrumentation proposed in the application, as appropriate, to be consistent with the revised logic model and using the most rigorous design suitable (e.g., prepare evaluation questions about significant program processes and outcomes; develop quantitative or qualitative data collections that permit both the collection of progress data, including fidelity of implementation, as appropriate, and the assessment of project outcomes; and identify analytic strategies); and

(iii) Revise the evaluation plan submitted in the application such that it clearly—

(A) Specifies the evaluation questions, measures, and associated instruments or sources for data appropriate to answer these questions, suggests analytic strategies for those data, provides a timeline for conducting the evaluation, and includes staff assignments for completing the evaluation activities;

(B) Delineates the data expected to be available by the end of the second project year for use during the project's evaluation (3+2 review) by OSEP for continued funding described under the heading Fourth and Fifth Years of the Project; and

(C) Can be used to assist the project director and the OSEP project officer in consultation with OESE staff, with the assistance of CIPP, as needed, to specify the project performance measures to be addressed in the project's annual performance report;

(2) Dedicate sufficient staff time and other resources during the first 6 months of the project to collaborate with CIPP staff, including regular meetings (e.g., weekly, biweekly, or monthly) with CIPP and the OSEP project officer, in order to accomplish the tasks described in paragraph (c)(1) of this section; and

(3) Dedicate sufficient funds in each budget year to cover the costs of carrying out the tasks described in paragraphs (C)(1) and (2) of this section and revising and implementing the evaluation plan. Please note in your budget narrative the funds dedicated for this activity.

(d) Demonstrate how—

(1) The proposed project will encourage applications for employment from persons who are members of groups that have traditionally been underrepresented based on race, color, national origin, gender, age, disability, LGBTQI+, English learner, or socio-economic status, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policymakers, among others, in its development and operation.

(f) Address the following application requirements. The applicant must—

(1) Include personnel-loading charts and timelines, as applicable, to illustrate the management plan described in the narrative;

(2) Include, in the budget, attendance at the following:

(i) A one and one-half day kick-off meeting in Washington, DC, after receipt of the award, and an annual planning meeting in Washington, DC, with the OSEP project officer, OESE representative, and other relevant staff during each subsequent year of the project period.

Note: Within 30 days of receipt of the award, a post-award teleconference must be held between the OSEP project officer and the grantee's project director or other authorized representative;

(ii) A two- and one-half day project directors' conference in Washington, DC, during each year of the project period;

(iii) Three annual two-day trips to attend Department briefings, Department-sponsored conferences, and other meetings, as requested by OSEP or OESE; and

(iv) A one-day intensive 3+2 review meeting in Washington, DC, during the second year of the project period;

(3) Include, in the budget, a line item for an annual set-aside of 5 percent of the grant amount to support emerging needs that are consistent with the proposed project's intended outcomes, as those needs are identified in consultation with, and approved by, the OSEP project officer in consultation with OESE staff as appropriate. With approval from the OSEP project officer, the project must reallocate any remaining funds from this annual set-aside no later than the end of the third quarter of each budget period; and

(4) Maintain a high-quality website, with an easy-to-navigate design, that meets government or industry- recognized standards for accessibility;

(5) Ensure that annual project progress toward meeting project goals is posted on the project website; and

(6) Include an assurance to assist OSEP with the transfer of pertinent resources and products and to maintain the continuity of services to States during the transition to a new award at the end of this award period, as appropriate.

Fourth and Fifth Years of the Project:

In deciding whether to continue funding the project for the fourth and fifth years, the Secretary will consider the requirements of 34 CFR 75.253(a), including—

(a) The recommendations of a 3+2 review team consisting of experts and recipients of services who have experience and knowledge in MTSS/PBIS. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

Requirements Unique to Absolute Priority 1:

Within Absolute Priority 1, we establish the following unique application requirements. In addition to the Common Application Requirements, in order to be considered for funding under Absolute Priority 1, applicants must, in their response to Application Requirement (a), demonstrate how the proposed project will:

(1) Under paragraph (a)(i)(B), present applicable State, regional, or local data demonstrating SEAs' and LEAs' needs related to increasing students' ability to fully participate in, and benefit from, a high-quality learning environment, particularly for students with the most significant behavioral challenges; and

(2) Under paragraph (a)(ii), demonstrate knowledge of current educational issues and policy initiatives relating to MTSS/PBIS and school climate practices and policies for students whose behavioral challenges interfere with their ability to fully participate in, and benefit from, a high-quality learning environment, including students with disabilities; and

(3) Under paragraph (a)(2), demonstrate how the proposed project will improve outcomes for students with behavioral challenges that interfere with their ability or the ability of their peers to fully participate in, and benefit from, a high-quality learning environment through the implementation of MTSS/PBIS frameworks, and indicate the likely magnitude or importance of the improvements.

Requirements Unique to Absolute Priority 2:

The following unique requirement, drawn from the NFP, applies to Absolute Priority 2. In addition to the Common Application Requirements, in order to be considered for funding under Absolute Priority 2, applicants must, in their response to Application Requirement (a)(2), demonstrate how the proposed project will improve the implementation of EBPs within a MTSS/PBIS framework to effectively support and respond to student behaviors that impact access to and participation in learning.

Waiver of Proposed Rulemaking: Under the Administrative Procedure Act (APA) (5 U.S.C. 553) the Department generally offers interested parties the opportunity to comment on proposed priorities. Section 681(d) of IDEA, however, makes the public comment requirements of the APA inapplicable to Absolute Priority 1 in this notice.

Program Authority: Sections 663 and 681(d) of the IDEA (20 U.S.C. 1463 and 1481); and section 4631(a)(1)(B) of the ESEA (20 U.S.C. 7281).

Note: Projects must be awarded and operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) the NFP.

Note: The regulations in 34 CFR part 79 apply to all applicants except federally recognized Indian Tribes.

Note: The regulations in 34 CFR part 86 apply to institutions of higher education (IHEs) only.

II. Award Information

Type of Award: Cooperative agreement.

Estimated Available Funds: For Absolute Priority 1: $1,850,000 from the Technical Assistance and Dissemination to Improve Services and Results for Children with Disabilities Program.

For Absolute Priority 2: $2,500,000 from the School Safety National Activities Program.

Note: We will make one award comprised of separate funding under each of the two absolute priorities. Therefore, applicants must submit a separate ED 524 Form (Section A—Budget Summary and Section C—Budget Narrative) for each absolute priority. The Secretary may reject any application that does not separately address the requirements specified in Absolute Priority 1 and Absolute Priority 2 and include a separate budget summary and budget narrative for each of those priorities.

Contingent upon the availability of funds and the quality of applications, we may make additional awards in FY 2024 from the list of unfunded applications from this competition.

Maximum Award: We will not make an award exceeding $1,850,000 for Absolute Priority 1 for a single budget period of 12 months. We will not make an award exceeding $2,500,000 for Absolute Priority 2 for a single budget period of 12 months.

Project Period: Up to 60 months.

III. Eligibility Information

1. Eligible Applicants: SEAs; State lead agencies under Part C of IDEA; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations, and other public agencies. The grantee may award subgrants to entities it has identified in an approved application or that it selects through a competition under procedures established by the grantee, consistent with 34 CFR 75.708(b)(2).

4. Other General Requirements:

(a) Recipients of funding under this competition must make positive efforts to employ and advance in employment qualified individuals with disabilities (see section 606 of IDEA).

(b) Applicants for, and recipients of, funding must, with respect to the aspects of their proposed project relating to the Absolute Priority 1 involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. However, under 34 CFR 79.8(a), we waive intergovernmental review in order to make an award by the end of FY 2023.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives is brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures, including long-term measures, that are designed to yield information on various aspects of the effectiveness and quality of the Technical Assistance and Dissemination to Improve Services and Results for Children with Disabilities and School Safety National Activities Programs—National Technical Assistance Center on Positive Behavioral Interventions and Supports.

These performance measures will apply to grant activities under both absolute priorities. These measures are:

• Program Performance Measure #1: The percentage of Technical Assistance and Dissemination products and services deemed to be of high quality by an independent review panel of experts qualified to review the substantive content of the products and services.

• Program Performance Measure #2: The percentage of Technical Assistance and Dissemination products and services deemed by an independent review panel of qualified experts to be of high relevance to educational and early intervention policy or practice.

• Program Performance Measure #3: The percentage of all Technical Assistance and Dissemination products and services deemed by an independent review panel of qualified experts to be useful in improving educational or early intervention policy or practice.

• Program Performance Measure #4: The cost efficiency of the Technical Assistance and Dissemination Program includes the percentage of milestones achieved in the current annual performance report period and the percentage of funds spent during the current fiscal year.

• Long-term Program Performance Measure: The percentage of States receiving Technical Assistance and Dissemination services regarding scientifically or evidence-based practices for children, and youth that successfully promote the implementation of those practices in school districts and service agencies.

The measures apply to projects funded under this competition, and grantees are required to submit data on these measures as directed by OSEP/OESE. Grantees will be required to report information on their project's performance in annual and final performance reports to the Department (34 CFR 75.590). The Department will also closely monitor the extent to which the products and services provided by the Center meet needs identified by stakeholders and may require the Center to report on such alignment in their annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.
James F. Lane,
Principal Deputy Assistant Secretary, Delegated the Authority to Perform the Functions and Duties of Assistant Secretary for the Office of Elementary and Secondary Education.

[FR Doc. 2023-15159 Filed 7-13-23; 4:15 pm]

BILLING CODE 4000-01-P